DEPARTMENT OF TRANSPORTATION

Coast Guard

33 CFR Part 117

[CGD08-02-028]

Drawbridge Operation Regulation; Three Mile Creek, Mobile, AL

AGENCY: Coast Guard, DOT.

ACTION: Notice of temporary deviation from regulations.

SUMMARY: The Commander, Eighth Coast Guard District, has issued a temporary deviation from the regulation governing the operation of the Alabama State Docks Terminal Railway railroad swing span drawbridge across Three Mile Creek, mile 0.7, at Mobile, Alabama. This deviation allows the draw of the railroad swing span bridge to remain closed to navigation from 7 a.m. until 5 p.m. from October 19, 2002 until October 28, 2002; except that, the bridge will open on signal between noon and 12:30 p.m. daily if at least two hours advanced notification is given. This temporary deviation is necessary to allow for the replacement of all rail, railway timbers and bridge joints.

DATES: This deviation is effective from 7 a.m. on Saturday, October 19, 2002 until 5 p.m. on Monday, October 28, 2002.

ADDRESSES: Materials referred to in this notice are available for inspection or copying at the office of the Commander (obc), Eighth Coast Guard District, 501 Magazine Street, New Orleans, Louisiana, 70130-3396 between the hours of 7 a.m. and 3 p.m. Monday through Friday except Federal holidays. The Bridge Administration Branch, Eighth District (obc), maintains the public docket for this notice.

FOR FURTHER INFORMATION CONTACT: David Frank, Bridge Administration Branch, telephone (504) 589-2965.

SUPPLEMENTARY INFORMATION: The Alabama State Docks Terminal Railway railroad swing span drawbridge across Three Mile Creek, Baldwin County, Alabama has a vertical clearance in the closed-to-navigation position of 4 feet above mean high water. The bridge provides unlimited vertical clearance in the open-to-navigation position. Navigation on the waterway consists of tugs with tows. Presently, the draw opens on signal for the passage of vessels as required by 33 CFR 117.5.

Alabama State Docks Terminal Railway requested a temporary deviation for the operation of the drawbridge to accommodate maintenance work. The work involves replacement of all rails, railway timbers and bridge joints on the bridge. This work is essential for continued safe operation of the draw span of the bridge.

This deviation allows the draw of the railroad swing span bridge to remain closed to navigation from 7 a.m. until 5 p.m. from October 19, 2002 until October 28, 2002; except that, the bridge will open on signal between noon and 12:30 p.m. daily if at least two hours advanced notification is given. The draw will open on signal between 5 p.m. and 7 a.m. The draw will be opened for emergencies but delays of up to one hour may occur during repair operations. The telephone number to call to request an opening during this repair work is 251-441-7300.

In accordance with 33 CFR 117.35(c), this work will be performed with all due speed in order to return the bridge to normal operation as soon as possible. This deviation from the operating regulations is authorized under 33 CFR 117.35.

Dated: October 9th, 2002.
Roy J. Casto,
Rear Admiral, U.S. Coast Guard, Commander, Eighth Coast Guard District.

[FR Doc. 02-26551 Filed 10-18-02; 8:45 am]

BILLING CODE 4910-15-P